DEPARTMENT OF COMMERCE

National Oceanic and Atmospheric Administration

[I.D. 011201C]

North Pacific Fishery Management Council; Public Meeting

AGENCY: National Marine Fisheries Service (NMFS), National Oceanic and Atmospheric Administration (NOAA), Commerce.

ACTION: Notice of a joint meeting of the North Pacific Fishery Management Council and the Alaska Board of Fisheries.

SUMMARY: The North Pacific Fishery Management Council (Council) and the Alaska Board of Fisheries (Board) will meet February 6, 2001, in Anchorage, AK.

DATES: The meeting will be held on Tuesday, February 6, 2001.

ADDRESSES: The meeting will be held at the Fourth Avenue Theater, 630 W. 4th Avenue, Anchorage, AK.

Council address: North Pacific Fishery Management Council, 605 W. 4th Ave., Suite 306, Anchorage, AK 99501-2252.

FOR FURTHER INFORMATION CONTACT: Council staff, telephone: 907-271-2809.

SUPPLEMENTARY INFORMATION: The Board and Council will hold their annual joint meeting to receive reports and discuss the following issues of mutual concern:

1. Halibut Charter Individual Fishing Quota Program.

2. Halibut subsistence.

3. Steller sea lions/fishery interactions.

4. Salmon bycatch in groundfish fisheries.

5. C. opilio bycatch in other fisheries.

6. Rationalization of the Bering Sea crab fisheries.

7. Rationalization of the Gulf of Alaska groundfish fisheries.

8. Habitat areas of particular concern.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen at 907-271-2809 at least 7 working days prior to the meeting date.

Dated: January 18, 2001.
Richard W. Surdi,
Acting Director, Office of Sustainable Fisheries, National Marine Fisheries Service.

[FR Doc. 01-2021 Filed 1-23-01; 8:45 am]

BILLING CODE 3510-22-S